DEPARTMENT OF ENERGY

Federal Energy Regulatory Commission

[Docket No. PF06-7-000]

Northern Natural Gas Company; Notice of Intent To Prepare an Environmental Assessment for the Proposed Northern Lights Project, Request for Comments on Environmental Issues and Notice of Scoping Meetings

February 23, 2006.

The staff of the Federal Energy Regulatory Commission (FERC or Commission) will prepare an environmental assessment (EA) that will discuss the environmental impacts of Northern Natural Gas Company's (Northern) planned Northern Lights Expansion Project located in Iowa and Minnesota. This notice announces the opening of the scoping process we will use to gather input from the public and interested agencies on the project. Your input will help the Commission staff determine which issues need to be evaluated in the EA. Please note that the scoping period will close on March 24, 2006.

Comments may be submitted in written form or presented verbally at the public meetings detailed below. Further details on how to submit written comments are provided in the public participation section of this notice. In lieu of sending written comments, you are invited to attend the public scoping meetings that are scheduled as follows:

Tuesday, March 14, 2006, 7 p.m.—Riverwood Inn and Conference Center, Sunset Room, 10990 95th Street NE., Monticello, MN 55362, 763-441-6833.

Wednesday, March 15, 2006, 7 p.m.—Farmington Middle School East, Multi-Purpose Room, 4100 208 Street West, Farmington, MN 55024, 651-460-1600.

Thursday, March 16, 2006, 7 p.m.—Best Western Holiday Lodge, 2023 7th Avenue North, Clear Lake, IA 50428, 641-357-5253.

This notice is being sent to affected landowners; Federal, state, and local government representatives and agencies; environmental and public interest groups; Native American tribes; other interested parties in this proceeding; and local libraries and newspapers. We encourage government representatives to notify their constituents of this planned project and encourage them to comment on their areas of concern.

Summary of the Proposed Project

Northern proposes to expand its natural gas transmission system to provide incremental firm service of 350,000-400,000 dekatherms in Northern's market area. More specifically, Northern seeks authority to construct the following facilities in various counties in Iowa and Minnesota:

• Construct approximately 18.8 miles of 36-inch-diameter pipeline extension in Hancock, Worth, and Winnebago counties, Iowa (Ventura/Owatonna E-Line);

• Abandon and remove approximately 15.0 miles of 16-inch-diameter pipeline in Hancock, Worth, and Winnebago counties, Iowa (J-Line);

• Construct approximately 10.0 miles of 30-inch-diameter pipeline extension in Rice and Steele counties, Minnesota (Owatonna/Faribault D-Line);

• Construct approximately 29.2 miles of 24-inch-diameter pipeline extension in Dakota and Rice counties, Minnesota (Faribault/Farmington E-Line);

• Construct approximately 4.3 miles of 4-inch-diameter pipeline loop in Anoka County, Minnesota (Elk River/Ham Lake Line);

• Construct approximately 7.6 miles of 24-inch-diameter pipeline loop in Dakota County, Minnesota (Rosemount Loop);

• Construct approximately 1.8 miles of 6-inch-diameter pipeline loop in Sherburne County, Minnesota (St. Cloud/Becker Line);

• Replace approximately 3.3 miles of 3-inch-diameter pipeline loop with 10-inch-diameter pipeline in Sherburne and Wright counties, Minnesota (Elk River/St. Michael Line);

• Modifications at two existing compressor stations in Dakota and Rice counties, Minnesota;

• Construction of two town border stations (TBS) in Dakota and Waseca counties, Minnesota;

• Rebuild of an existing TBS in Hennepin County, Minnesota; and

• Modifications at 19 existing TBS in Anoka, Wright, Chisago, Washington, Dakota, Stearns, and Carver counties, Minnesota.

With the exception of five miles of new greenfield pipeline, Northern would install the pipeline looping and extensions adjacent to existing pipelines. Location maps depicting Northern's proposed facilities are provided in Appendix 1.¹

¹ The appendices referenced in this notice are not being printed in the Federal Register. Copies are available on the Commission's Web site (excluding maps) at the “eLibrary” link or from the Commission's Public Reference Room or call (202) 502-8371. For instructions on connecting to eLibrary refer to the end of this notice. Copies of the appendices were sent to all those receiving this notice in the mail.

Currently Identified Environmental Issues

At this time no formal application has been filed with the FERC. For this project, the FERC staff has initiated its NEPA review prior to receiving the application. The purpose of our NEPA Pre-Filing Process is to involve interested stakeholders early in project planning and to identify and resolve issues before an application is filed with the FERC.

We have already identified several issues that we think deserve attention based on a preliminary review of the proposed facilities, environmental information provided by Northern, and comments gathered from concerned citizens at Northern's open houses. This preliminary list of issues may be changed based on your comments and our analysis.

• Potential impacts on the Mississippi, Vermillion, and Cannon rivers;

• Potential impacts to Vermillion River watershed;

• Potential impacts on wetlands;

• Safety concerns of the pipeline;

• Potential impacts on agricultural land and prime farmland; and

• Potential impacts on historic resources.

The EA Process

The FERC will use the EA to consider the environmental impact that could result if it issues Northern a Certificate of Public Convenience and Necessity.

This notice formally announces our preparation of the EA and the beginning of the process referred to as “scoping.” We ² are soliciting input from the public and interested agencies to help us focus the analysis in the EA on the potentially significant environmental issues related to the proposed action.

² “We,” “us,” and “our” refer to the environmental staff of the Office of Energy Projects.

Our independent analysis of the issues will be included in an EA that will be prepared for the project. Our evaluation will also include reasonable alternatives to the proposed project or portions of the project, and we will make recommendations on how to lessen or avoid impacts on the various resource areas of concern.

Depending on the comments received during the scoping process, the EA may be published and mailed to affected landowners; Federal, state, and local government representatives and agencies; elected officials; environmental and public interest groups; Native American tribes; other interested parties; local libraries and newspapers; and the FERC's official service list for this proceeding. A 30-day comment period will be allotted for review if the EA is published. We will consider all comments on the EA before we make our recommendations to the Commission.

We are currently coordinating with other jurisdictional and resource management agencies to identify their issues and concerns. These agencies include the U.S. Army Corps of Engineers, U.S. Fish and Wildlife Service, U.S. Department of Agriculture Natural Resources Conservation Service, Minnesota Department of Natural Resources, Iowa Department of Natural Resources, and the U.S. Department of Transportation. By this notice, we are asking these and other Federal, state, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives, and measures to avoid or lessen environmental impact. The more specific your comments, the more useful they will be. To ensure that your comments are timely and properly recorded, please mail your comments so that they will be received in Washington, DC on or before March 24, 2006 and carefully follow these instructions:

• Send an original and two copies of your letter to: Magalie R. Salas, Secretary, Federal Energy Regulatory Commission, 888 First St., NE., Room 1A, Washington, DC 20426;

• Label one copy of the comments for the attention of Gas Branch 3, DG2E; and

• Reference Docket No. PF06-7-000 on the original and both copies.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing”.

When Northern submits its application for authorization to construct and operate the Northern Lights Project, the Commission will publish a Notice of Application in the Federal Register and will establish a deadline for interested persons to intervene in the proceeding. Because the Commission's Pre-filing Process occurs before an application to begin a proceeding is officially filed, petitions to intervene during this process are premature and will not be accepted by the Commission.

Environmental Mailing List

If you wish to remain on the environmental mailing list, please return the Mailing List Retention Form included in Appendix 2. If you do not return this form, you will be taken off our mailing list.

Availability of Additional Information

Additional information about the project is available from the Commission's Office of External Affairs at 1-866-208 FERC (3372) or on the FERC Internet Web site (http://www.ferc.gov). Using the “eLibrary” link, select “General Search” from the eLibrary menu, enter the selected date range and “Docket Number” (i.e., PF06-7-000), and follow the instructions. Searches may also be done using the phrase “Northern Lights” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, Northern has established an Internet Web site for its project at http://www.northernnaturalgas.com/expansionprojects. The Web site includes a project overview, contact information, regulatory overview, and construction procedures.

Magalie R. Salas,
Secretary.

[FR Doc. E6-2876 Filed 2-28-06; 8:45 am]

BILLING CODE 6717-01-P